FEDERAL COMMUNICATIONS COMMISSION

[AU Docket No. 09-205; DA 10-588]

Auction of Lower and Upper Paging Bands Licenses Rescheduled for June 15, 2010; Status of Short-Form Applications to Participate in Auction 87

AGENCY: Federal Communications Commission.

ACTION: Notice.

SUMMARY: This document announces the revised schedule and deadlines for the upcoming auction of 9,603 licenses for lower and upper paging bands designated Auction 87.

DATES: Upfront payments are due by 6 p.m. Eastern Time (ET) on April 30, 2010. Auction applicants with incomplete short-form applications must resubmit their applications, having corrected the deficiencies indicated, prior to 6 p.m. ET on April 30, 2010. Bidding for licenses in Auction 87 is scheduled to begin on June 15, 2010.

FOR FURTHER INFORMATION CONTACT: Wireless Telecommunications Bureau, Auctions and Spectrum Access Division: For legal questions: Scott Mackoul at (202) 418-0660.

SUPPLEMENTARY INFORMATION: This is a summary of the Auction 87 Status Public Notice, which was released on April 13, 2010. The complete text of the Auction 87 Status Public Notice, including attachments, as well as related Commission documents, are available for public inspection and copying from 8 a.m. to 4:30 p.m. ET Monday through Thursday and from 8 a.m. to 11:30 a.m. ET on Fridays in the FCC Reference Information Center, 445 12th Street, SW., Room CY-A257, Washington, DC 20554. The Auction 87 Status Public Notice and related Commission documents may also be purchased from the Commission's duplicating contractor, Best Copy and Printing, Inc. (BCPI), Portals II, 445 12th Street, SW., Room CY-B402, Washington, DC 20554, telephone 202-488-5300, facsimile 202-488-5563, or Web site: http://www.BCPIWEB.com, using document number DA 10-588 for the Auction 87 Status Public Notice. The Auction 87 Status Public Notice and related documents are also available on the Internet at the Commission's Web site: http://wireless.fcc.gov/auctions/87/.

1. The Wireless Telecommunications Bureau (Bureau) announces a revised schedule for the upcoming auction of 9,603 licenses for lower and upper paging bands spectrum. This auction, which is designated as Auction 87, was initially scheduled to begin on Tuesday, May 25, 2010, but because of necessary scheduling changes, the auction will begin on Tuesday, June 15, 2010. The Bureau also announces a new deadline for submitting an upfront payment (6 p.m. ET on April 30, 2010) and a new date for the mock auction (June 11, 2010).

2. The initial schedule of bidding rounds will be announced by public notice at least one week before the start of the auction. With the exception of these and any other changes set forth in this Public Notice, the procedures, terms and conditions previously announced in the Auction 87 Procedures Public Notice will apply in Auction 87.

3. The Bureau also announces, in the Auction 87 Status Public Notice, the status of the 89 short-form applications submitted by parties wishing to participate in Auction 87. The Auction 87 Status Public Notice lists 34 applications as complete and 55 applications as incomplete. Applicants with incomplete short-form applications must resubmit their applications, having corrected the deficiencies indicated, prior to 6 p.m. ET on Friday, April 30, 2010. The Bureau also reminds auction applicants that they must maintain the accuracy of their short-form applications as required by 47 CFR 1.65 and 1.2105.

4. Approximately three weeks after the upfront payment deadline, following Commission review of resubmitted short-form applications, and the correlation of payments and applications, a public notice listing all applicants qualified to bid in Auction 87 will be released. The same public notice will also include bidding schedules for both the mock auction and the first day of bidding.

Federal Communications Commission.
William W. Huber,
Associate Chief, Auctions and Spectrum Access Division, WTB.

[FR Doc. 2010-9623 Filed 4-23-10; 8:45 am]

BILLING CODE 6712-01-P